DEPARTMENT OF HEALTH AND HUMAN SERVICES

Food and Drug Administration

21 CFR Chapter I

Change of Address; Technical Amendment

AGENCY: Food and Drug Administration, HHS.

ACTION: Final rule; technical amendment.

SUMMARY: The Food and Drug Administration (FDA) is amending its regulations to reflect a change in the address for the American Society for Testing Materials (ASTM). This action is editorial in nature and is intended to improve the accuracy of the agency's regulations.

DATES: This rule is effective December 1, 2005.

FOR FURTHER INFORMATION CONTACT: Joyce Strong, Office of Policy and Planning (HF-27), Food and Drug Administration, 5600 Fishers Lane, Rockville, MD 20857, 301-827-7010.

SUPPLEMENTARY INFORMATION: This document amends FDA's regulations to reflect the address change of ASTM by removing the outdated address wherever it appears and by adding the new address in its place in 21 CFR parts 172, 175, 176, 177, 178, and 179.

Publication of this document constitutes final action on these changes under the Administrative Procedure Act (5 U.S.C. 553). Notice and public procedure are unnecessary because FDA is merely correcting nonsubstantive errors.

Therefore, under the Federal Food, Drug, and Cosmetic Act and under authority delegated to the Commissioner of Food and Drugs, 21 CFR chapter I is amended as follows:

Chapter I [Nomenclature changes]

1. Parts 172, 175, 176, 177, 178, and 179 are amended by removing “1916 Race St., Philadelphia, PA 19103” or “1916 Race Street, Philadelphia, PA 19103” and adding in its place “100 Barr Harbor Dr., West Conshohocken, Philadelphia, PA 19428-2959” wherever it appears.

Dated: November 23, 2005.
Jeffrey Shuren,
Assistant Commissioner for Policy.

[FR Doc. 05-23521 Filed 11-30-05; 8:45 am]

BILLING CODE 4160-01-S